DEPARTMENT OF ENERGY

Federal Energy Regulatory Commission

[Docket No. RM98-1-000]

Regulations Governing Off-the-Record Communications; Public Notice

November 21, 2000.

This constitutes notice, in accordance with 18 CFR 385.220(h), of the receipt of exempt and prohibited off-the-record communications.

The following is a list of exempt and prohibited off-the-record communications received in the Office of the Secretary within the preceding 14 days.

None were received.

David P. Boergers,
Secretary.

[FR Doc. 00-30209 Filed 11-27-00; 8:45 am]

BILLING CODE 6717-01-M